DEPARTMENT OF HOMELAND SECURITY

Coast Guard

33 CFR Part 117

[Docket No. USCG-2012-0008]

Drawbridge Operation Regulation; Boudreaux Canal, Chauvin, LA

AGENCY: Coast Guard, DHS.

ACTION: Notice of temporary deviation from regulations.

SUMMARY: The Commander, Eighth Coast Guard District, has issued a temporary deviation from the regulation governing the operation of the State Route 56 swing bridge across Boudreaux Canal, mile 0.1, near Chauvin, Terrebonne Parish, Louisiana. The deviation is necessary to perform structural repairs on the bridge. This deviation allows the bridge to remain closed-to-navigation for 30 days during March and April 2012.

DATES: This deviation is effective from 6 a.m. on Monday, March 5, 2012 through 7 p.m. on Wednesday, April 4, 2012.

ADDRESSES: Documents mentioned in this preamble as being available in the docket are part of docket USCG-2012-0008 and are available online by going to http://www.regulations.gov, inserting USCG-2012-0008 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Kay Wade, Bridge Branch Office, Coast Guard; telephone (504) 671-2128, email Kay.B.Wade@uscg.mil. If you have questions on viewing the docket, call Renee V. Wright, Program Manager, Docket Operations, telephone (202) 366-9826.

SUPPLEMENTARY INFORMATION: The Louisiana Department of Transportation and Development has requested a temporary deviation from the operating schedule for the swing span bridge across Boudreaux Canal, mile 0.1, at Chauvin, Terrebonne Parish, Louisiana. The swing span bridge has a vertical clearance of 5 feet above high water, elevation 3 feet Mean Sea Level in the closed-to-navigation position and unlimited in the open-to-navigation position.

In accordance with 33 CFR 117.5, the bridge currently opens on signal for the passage of vessels. This deviation allows the swing span of the bridge to remain closed-to-navigation Monday through Saturday during the times and dates as follows: From 6 a.m. through 6 p.m. from Monday, March 5, 2012 through Saturday, March 10, 2012; and from 7 a.m. through 7 p.m. from Monday, March 12, 2012 through Wednesday, April 4, 2012. During the deviation period, the swing span of the bridge will open for the passage of vessels from 12 noon to 1 p.m. each work day.

The closures are necessary in order to remove broken and deteriorated bottom lateral cross braces and install I-beam stringers on the bridge deck, as well as to remove and replace splice plate bolts which fasten the two sections of main span girders along the two longitudinal sides of the bridge deck. This maintenance is essential for the continued operation of the bridge. Notices will be published in the Eighth Coast Guard District Local Notice to Mariners and will be broadcast via the Coast Guard Broadcast Notice to Mariners System.

Navigation on the waterway consists of tugs with tows, fishing vessels and recreational craft. The bridge will be able to open for emergencies, if necessary. There are no alternate waterway routes available. Based on experience and coordination with waterway users, it has been determined that these closures will not have a significant effect on vessels that use the waterway.

In accordance with 33 CFR 117.35(e), the drawbridge must return to its regular operating schedule immediately at the end of the designated time period. This deviation from the operating regulations is authorized under 33 CFR 117.35.

Dated: January 10, 2012.
David M. Frank,
Bridge Administrator.

[FR Doc. 2012-1442 Filed 1-24-12; 8:45 am]

BILLING CODE 9110-04-P